DEPARTMENT OF THE TREASURY

Office of the Comptroller of the Currency

12 CFR Part 8

[Docket No. 02-12A]

RIN 1557-AC00

Assessment of Fees

AGENCY: Office of the Comptroller of the Currency (OCC), Treasury.

ACTION: Final rule; technical correction.

SUMMARY: This final rule makes a correction to the final rule that the OCC published in the Federal Register on September 11, 2002 (67 FR 57509) amending 12 CFR 8.2(a). That provision sets forth the formula for the semiannual assessment the OCC charges each national bank.

EFFECTIVE DATE: This final rule is effective on October 9, 2002.

FOR FURTHER INFORMATION CONTACT: Michele Meyer, Counsel, Legislative and Regulatory Activities Division, 202-874-5090.

SUPPLEMENTARY INFORMATION: On November 16, 2001, the OCC published a final rule in the Federal Register that amended 12 CFR 8.2(a), which sets forth the formula for the semi-annual assessment that the OCC charges national banks. 66 FR 57645 (November 16, 2001). The objective of the rulemaking, as described in the preambles to the proposed and final rules, was to revise 12 CFR 8.2(a) only. However, in the published final rule, 12 CFR 8.2(a)(1) through (a)(6) were inadvertently deleted. 66 FR at 57647-48. A final rule published September 11, 2002 restored those deleted provisions of the regulation. 67 FR 57509 (September 11, 2002).

However, the September 11, 2002 final rule also restored erroneously 12 CFR 8.2(a)(7), which had been removed in a prior rulemaking. 66 FR 29890 (June 1, 2001). Today's final rule again removes that provision from the regulation.

This final rule takes effect immediately. The OCC has concluded that the notice and comment procedures prescribed by the Administrative Procedure Act are unnecessary because this rule corrects a technical error without substantive change to the provision of § 8.2(a). See 5 U.S.C. 553(b)(3)(B). Cf. United States National Bank of Oregon v. Independent Insurance Agents of America, Inc., 508 U.S. 439, 462 (1993) (error in punctuation construed so as not to defeat the “true meaning” of a Federal law that relocated but did not repeal the statutory provision authorizing national banks to sell insurance).

List of Subjects in 12 CFR Part 8

National banks, Reporting and recordkeeping requirements.

Accordingly, 12 CFR part 8 is amended by making the following correcting amendments:

PART 8—ASSESSMENT OF FEES

1. The authority citation for part 8 continues to read as follows:

Authority: 12 U.S.C. 93a, 481, 482, 1867, 3102, and 3108; 15 U.S.C. 78c and 78l; and 26 D.C. Code 102.

2. In § 8.2, paragraphs (a)(1) through (a)(6), respectively, are republished and paragraph (a)(7) is removed, to read as follows:

§ 8.2 Semiannual assessment.

(a) * * *

(1) Every national bank falls into one of the ten asset-size brackets denoted by Columns A and B. A bank's semiannual assessment is composed of two parts. The first part is the calculation of a base amount of the assessment, which is computed on the assets of the bank up to the lower endpoint (Column A) of the bracket in which it falls. This base amount of the assessment is calculated by the OCC in Column C.

(2) The second part is the calculation by the bank of assessments due on the remaining assets of the bank in excess of Column E. The excess is assessed at the marginal rate shown in Column D.

(3) The total semiannual assessment is the amount in Column C, plus the amount of the bank's assets in excess of Column E times the marginal rate in Column D: Assessments = C+[(Assets − E) × D].

(4) Each year, the OCC may index the marginal rates in Column D to adjust for the percent change in the level of prices, as measured by changes in the Gross Domestic Product Implicit Price Deflator (GDPIPD) for each June-to-June period. The OCC may at its discretion adjust marginal rates by amounts less than the percentage change in the GDPIPD. The OCC will also adjust the amounts in Column C to reflect any change made to the marginal rate.

(5) The specific marginal rates and complete assessment schedule will be published in the “Notice of Comptroller of the Currency Fees”, provided for at § 8.8 of this part. Each semiannual assessment is based upon the total assets shown in the bank's most recent “Consolidated Report of Condition (Including Domestic and Foreign Subsidiaries)” (Call Report) preceding the payment date. The assessment shall be computed in the manner and on the form provided by the Comptroller of the Currency. Each bank subject to the jurisdiction of the Comptroller of the Currency on the date of the second or fourth quarterly Call Report required by the Office under 12 U.S.C. 161 is subject to the full assessment for the next six-month period.

(6)(i) Notwithstanding any other provision of this part, the OCC may reduce the semiannual assessment for each non-lead bank by a percentage that it will specify in the Notice of Comptroller of the Currency Fees described in § 8.8.

(ii) For purposes of this paragraph (a)(6):

(A) Lead bank means the largest national bank controlled by a company, based on a comparison of the total assets held by each national bank controlled by that company as reported in each bank's Call Report filed for the quarter immediately preceding the payment of a semiannual assessment.

(B) Non-lead bank means a national bank that is not the lead bank controlled by a company that controls two or more national banks.

(C) Control and company have the same meanings as these terms have in sections 2(a)(2) and 2(b), respectively, of the Bank Holding Company Act of 1956 (12 U.S.C. 1841(a)(2) and (b)).

* * * * *

Dated: September 25, 2002.
Julie L. Williams,
First Senior Deputy Comptroller and Chief Counsel.

[FR Doc. 02-25634 Filed 10-8-02; 8:45 am]

BILLING CODE 4810-33-P